FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 40901 of the Shipping Act of 1984 (46 U.S.C. 40101). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

ACM Enterprises Group, Inc. (NVO), 2751 E. El Presidio Street, Unit 100, Carson, CA 90810, Officer: Edgar Karoyan, President/Sec/Treasurer/Vice President (Qualifying Individual), Application Type: New NVO License.

Amerifreight (N.A.), Inc. dba Freight Team (NVO & OFF), 218 Machlin Ct., Walnut, CA 91789, Officer: Lionel Bao, President/CEO/Secretary/CFO (Qualifying Individual), Application Type: Trade Name Change.

Aqua Gulf Transport, Inc. (NVO & OFF), 1301 W. Newport Center Drive, Deerfield Beach, FL 33442, Officer: Robert J. Browne, Chairman/CEO (Qualifying Individual), Application Type: License Transfer.

Bayanihan Cargo International Inc. (NVO), 925 Linden Avenue, Unit #D, South San Francisco, CA 94080, Officers: Manuel A. Espinosa, President (Qualifying Individual), Amparo A. Espinosa, Vice President, Application Type: New NVO License.

COM TEC LLC (NVO & OFF), 327 College St., #200, Woodland, CA 95695, Officer: Nasrullah Chaudhry, Member/Manager (Qualifying Individual), Application Type: Add NVO Service.

Daudry Business Group (NVO & OFF), 5463 NW 72nd Avenue, Miami, FL 33166, Officers: Darcy Perez, President/Secretary (Qualifying Individual), Audry Navarro, Vice President/Treasurer, Application Type: New NVO & OFF License.

DTS Advance LLC dba Triple Eagle Logistic Canada (NVO & OFF), 38850 Taylor Parkway, North Ridgeville, OH 44039, Officers: Donald B. Hackney, Vice President (Operations) (Qualifying Individual), Depeng Tong, Executive Director, Application Type: Trade Name Change.

Express Line International Corp. (NVO & OFF), 223 Lawrence Avenue, South San Francisco, CA 94080, Officers: Paul Kong, President (Qualifying Individual), Margaret Kong, CFO/Secretary, Application Type: New NVO & OFF License.

FSG Logistics (USA), Inc. dba FSG Logistics, Inc. (NVO & OFF), 27013 Pacific Highway South, PMB386, Des Moines, WA 98198, Officer: Mark L. Pederson, President/Treasurer/Secretary (Qualifying Individual), Application Type: New NVO & OFF License.

Global Synergy Logistics, Inc. (NVO & OFF), 69 Oakdale Road, Roslyn Heights, NY 11577, Officer: Yuk L. Cheung, President/Secretary/Treasurer (Qualifying Individual), Application Type: New NVO & OFF License.

Hyundai Logistics (USA), Inc. (NVO & OFF), 14251 E. Firestone Blvd., La Mirada, CA 90638, Officers: Jae S. Kim, Vice President (Qualifying Individual), Tae Soo Kim, President/CEO/Sec/Treasurer/CFO, Application Type: New NVO & OFF License.

Jenny Freight Forwarding, LLC (NVO & OFF), 11447 S. 45th Court, Phoenix, AZ 85044, Officers: Shu-Hsia J. Fogle, Member (Qualifying Individual), Steven E. Fogle, Member, Application Type: New NVO & OFF License.

Ocean Trade Lines, Inc. (NVO), 500 E. Broward Blvd., #1710, Ft. Lauderdale, FL 33394, Officer: Roy Ezra, President/Secretary (Qualifying Individual), Application Type: Name Change.

PLS Air & Shipping, Inc. (NVO), 26939 Springcreek Road, Rancho Palos Verdes, CA 90275, Officers: Jinyoung Bae, President/VP/Chief Financial Officer (Qualifying Individual), Jaijoon Lee, Secretary, Application Type: New NVO License.

Prime Van Lines, Inc. (NVO & OFF), 297 Getty Avenue, Paterson, NJ 07503, Officers: Mike Diana, Secretary (Qualifying Individual), Betty Bendavid, President, Application Type: QI Change.

Spectrum Trucking Co., Inc. dba Spectrum Logistics (NVO & OFF), 10550 Deerwood Park Blvd., #509, Jacksonville, FL 32256, Officers: Ronald M. Doyle, Vice President, Melanie R. McCoy, Secretary (Qualifying Individuals), Application Type: QI Change.

Solivan Racing Logistics Inc. (OFF), Parque Ind Otero 122-124, Carolina, PR 00985, Officers: Andres E. Solivan, President (Qualifying Individual), Daysde M. Estremera, Secretary/Vice President, Application Type: New OFF License.

Sun US Transport Corp. (NVO & OFF), 6449 Whittier Blvd., Los Angeles, CA 90022, Officer: Pete Pang, President/CEO/Secretary/CFO/Director (Qualifying Individual), Application Type: Add NVO Service.

Taiwan Express (USA), Inc. (NVO & OFF), 409 N. Oak Street, Inglewood, CA 90302, Officers: Sean H. Wu, Secretary (Qualifying Individual), Benison H. Hsu, President/CEO, Application Type: New NVO & OFF License.

Trinity Logistics USA, Inc. (NVO), 10 E. Merrick Road, Suite 304, Valley Stream, NY 11580, Officers: Gary L. Pippin, Vice President (Qualifying Individual), David Pereira, President/Secretary/Treasurer, Application Type: QI Change.

Triple “B” Forwarders, Inc. (NVO & OFF), 1511 Glenn Curtiss Street, Carson, CA 90746, Officers: Richard Beliveau, President (Qualifying Individual), Connie Ladin, Secretary, Application Type: Name Change.

United Cargo Services, Inc. (NVO), 44075 Pipeline Plaza, Suite 300, Ashburn, VA 20147, Officers: Sadek Toufeily, President/General Manager/Director (Qualifying Individual), Ghassan Sakallah, Director/Vice President, Application Type: License Transfer.

Dated: June 15, 2012.
Karen V. Gregory,
Secretary.

[FR Doc. 2012-15062 Filed 6-19-12; 8:45 am]

BILLING CODE 6730-01-P